OFFICE OF SCIENCE AND TECHNOLOGY POLICY

Request for Information; Sustainability of Microgravity R&D During and Beyond ISS Transition

AGENCY: Office of Science and Technology Policy (OSTP).

ACTION: Notice of Request for Information.

SUMMARY: The White House Office of Science and Technology Policy (OSTP) requests input to help inform the development of a National Strategy for Microgravity Research and Development (R&D) to ensure sustainability of space-based research during and beyond microgravity platform transition—from the International Space Station (ISS) to future commercial platforms. This particular request seeks information regarding the future vision of a robust research ecosystem in low-earth orbit (LEO) and the role of the U.S. government in enabling that future.

DATES: Interested persons and organizations are invited to submit comments on or before 5:00 p.m. ET, December 2, 2022 to be considered.

ADDRESSES: Due to time constraints, mailed paper submissions will not be accepted, and electronic submissions received after the deadline may not be taken into consideration. You may submit comments by email:

• Email: microgravity@ostp.eop.gov, include Microgravity RFI in the subject line of the message.

Instructions: Response to this RFI is voluntary. Email submissions should be machine-readable [PDF, Word] and should not be copy-protected. Respondents need not reply to all questions listed. Each individual or institution is requested to submit only one response, in English. Electronic responses must be provided as attachments to an email. It is recommended that attachments with file sizes exceeding 25MB be compressed (i.e., zipped) to ensure message delivery. Please identify your answers by responding to a specific question or topic if possible. Respondents may answer as many or as few questions as they wish. Comments of seven pages or fewer (2,500 words) are requested; longer responses will not be considered. Responses should include the name of the person(s) or organization(s) filing the response.

Information obtained from this RFI may be used by the Government on a non-attribution basis for planning and strategy development. OSTP will not respond to individual submissions. A response to this RFI will not be viewed as a binding commitment to develop or pursue the project or ideas discussed. This RFI is not accepting applications for financial assistance or financial incentives.

Responses containing references, studies, research, and other empirical data that are not widely published should include copies of or electronic links to the referenced materials. Responses containing profanity, vulgarity, threats, or other inappropriate language or content will not be considered.

Comments submitted in response to this notice are subject to the Freedom of Information Act (FOIA). Responses to this RFI may be posted without change online. OSTP therefore requests that no proprietary information, copyrighted information, or personally identifiable information be submitted in response to this RFI. Please note that the United States Government will not pay for response preparation, or for the use of any information contained in a response.

FOR FURTHER INFORMATION CONTACT: Ezinne Uzo-Okoro; tel: 202-456-4444.

SUPPLEMENTARY INFORMATION: Pursuant to 42 U.S.C. 6617, OSTP is soliciting public input through an RFI to obtain feedback from a wide variety of stakeholders, including individuals, industry, academia, research laboratories, nonprofits, and think tanks. OSTP is specifically interested in public input to inform the development and release of a national strategy to ensure sustainability of space-based research in the decades to come. For the purpose of this RFI, microgravity R&D refers to any research or experimental development activities in LEO that leverage the unique environment of space, including altered gravity, thermal extremes, radiation, micrometeoroids, and the vacuum environment. OSTP seeks response to any or all of the following questions:

1. What should be the United States' vision for the future of microgravity research?

2. What should be the long-term microgravity research goals for U.S. presence in LEO?

3. What are the top critical research, development, or operational needs required to ensure a smooth transition between the International Space Station and future commercial LEO microgravity platforms and realize the ideal future of microgravity research?

4. What would be the most effective role of the U.S. government to ensure sustained LEO microgravity R&D following the retirement of the ISS?

5. Should the U.S. government continue to sponsor a national lab in LEO after ISS transition? If so, what would be the best model(s) for a LEO national lab?

Dated: November 10, 2022.
Rachel Wallace,
Deputy General Counsel.

[FR Doc. 2022-24999 Filed 11-16-22; 8:45 am]

BILLING CODE 3270-F1-P